DEPARTMENT OF TRANSPORTATION

Federal Aviation Administration

14 CFR Part 39

[Docket No. 2001-NM-239-AD]

RIN 2120-AA64

Airworthiness Directives; Airbus Model A319, A320, and A321 Series Airplanes

AGENCY: Federal Aviation Administration, DOT.

ACTION: Notice of proposed rulemaking (NPRM).

SUMMARY: This document proposes the adoption of a new airworthiness directive (AD), applicable to certain Airbus Model A319, A320, and A321 series airplanes. The proposed AD would require checking the identification plate on the ram air turbine (RAT) actuator and re-identifying the actuator or replacing the actuator with one which has been cleaned and tested by its manufacturer. This proposal is prompted by issuance of mandatory continuing airworthiness information by a foreign civil airworthiness authority. The actions specified by the proposed AD are intended to prevent jamming of the RAT actuator in an emergency which requires deployment of the RAT, and consequent loss of hydraulic and electrical power in the airplane.

DATES: Comments must be received by January 16, 2004.

ADDRESSES: Submit comments in triplicate to the Federal Aviation Administration (FAA), Transport Airplane Directorate, ANM-114, Attention: Rules Docket No. 2001-NM-239-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-239-AD” in the subject line and need not be submitted in triplicate. Comments sent via the Internet as attached electronic files must be formatted in Microsoft Word 97 for Windows or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket No. 2001-NM-239-AD.” The postcard will be date stamped and returned to the commenter.

Availability of NPRMs

Any person may obtain a copy of this NPRM by submitting a request to the FAA, Transport Airplane Directorate, ANM-114, Attention: Rules Docket No. 2001-NM-239-AD, 1601 Lind Avenue, SW., Renton, Washington 98055-4056.

Discussion

The Direction Générale de l'Aviation Civile (DGAC), which is the airworthiness authority for France, notified the FAA that an unsafe condition may exist on certain Airbus Model A319, A320, and A321 series airplanes. The DGAC advises that, during a test of an ram air turbine (RAT) on the final assembly line, the RAT did not deploy due to contamination of the RAT actuator by machining chips. This condition, if not corrected, could result in jamming of the RAT actuator in an emergency which requires deployment of the RAT, and consequent loss of hydraulic and electrical power in the airplane.

Explanation of Relevant Service Information

Airbus has issued Service Bulletin A320-29-1098, Revision 02, dated February 20, 2003, which describes procedures for the following steps:

(1) Extending the RAT actuator to check the part number, the serial number, and the notations on the Amend Block of the identification plate;

(2) Re-identifying certain RAT actuators; and

(3) Sending certain RAT actuators back to their manufacturer (Arkwin Industries, Inc.) and replacing them with RAT actuators which have been cleaned and re-identified by the manufacturer.

Airbus Service Bulletin A320-29-1098, Revision 02, dated February 20, 2003, refers to Hamilton Sundstrand/Arkwin Industries Service Bulletin ERPS08A-29-2, dated February 22, 2001, as a secondary source of service information for these actions.

The DGAC classified Airbus Service Bulletin A320-29-1098, Revision 02, dated February 20, 2003, as mandatory. On December 24, 2002, the DGAC issued French airworthiness directive 2001-236(B) R1 in order to assure the continued airworthiness of these airplanes in France.

Related Rulemaking

For Airbus Models A319 and A321 series airplanes, Airbus Service Bulletin A320-29-1098, Revision 02, dated February 20, 2003, specifies that there is to be prior or concurrent accomplishment of Airbus Service Bulletin A320-29-1088. Accomplishment of that service bulletin is required by AD 2000-05-08, amendment 39-11617 (65 FR 12080, March 8, 2000).

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require checking the identification plate on the RAT actuator and re-identifying the actuator or replacing it with one which has been cleaned, tested and re-identified by its manufacturer. The actions would be required to be accomplished in accordance with Airbus Service Bulletin A320-29-1098, Revision 02, dated February 20, 2003, and Hamilton Sundstrand/Arkwin Industries Service Bulletin ERPS08A-29-2, dated February 22, 2001.

Cost Impact

There are approximately 195 airplanes of U.S. registry that would be affected by this proposed AD.

The actions that are proposed in this AD action would take a maximum of 5 work hours per airplane to accomplish, at an average labor rate of $65 per work hour. There would be no cost for required parts. Based on these figures, the cost impact of the proposed requirements of this AD on U.S. operators is estimated to be $63,375 or $325 per airplane.

The cost impact figure discussed above is based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive (AD), to read as follows:

Airbus: Docket 2001-NM-239-AD.

Applicability: Model A320 series airplanes which have received modification 27189, Model A319 series airplanes; and Model A321 series airplanes, provided that none has received modification 30978 or 28413; certificated in any category.

Compliance: Required as indicated, unless accomplished previously.

To prevent jamming of the ram air turbine (RAT) actuator in an emergency which requires deployment of the RAT, and consequent loss of hydraulic and electrical power in the airplane, accomplish the following:

Extension of RAT Actuator

(a) Within 31 months after the effective date of this AD: Extend the existing RAT actuator, in accordance with the Accomplishment Instructions of Airbus Service Bulletin A320-29-1098, Revision 02, dated February 20, 2003.

Determination of Identification of RAT Actuator

(b) Immediately after accomplishment of paragraph (a) of this AD: Check the identification plate on the RAT actuator to determine the part number (P/N), the serial number, and whether there is a notation in the Amend Block, in accordance with the Accomplishment Instructions of Hamilton Sundstrand/ Arkwin Industries Service Bulletin ERPS08A-29-2, dated February 22, 2001.

Retraction, Re-identification, or Replacement of RAT Actuator

(c) Depending upon the identification of the RAT actuator, accomplish the follow-on action indicated in Table 1 of this AD, in accordance with the Accomplishment Instructions of Airbus Service Bulletin A320-29-1098, Revision No. 02, dated February 20, 2003.

Table-1.—Follow-on Actions
If the P/N is— | And the Amend Block is marked with an “A”— | And the serial number is— | Then—
764711A | N/A | N/A | No further action is required.
764711 | No | N/A | Prior to further flight, remove the RAT actuator and replace it with one which has been cleaned, tested and re-identified by its manufacturer.
764711 | Yes | 0868-0889 | Prior to further flight, remove the RAT actuator and replace it with one which has been cleaned, tested and re-identified by its manufacturer.
764711 | Yes | Other than 0868-0889 | Prior to further flight, re-identify the RAT actuator, in accordance with paragraph 2.G. of the Accomplishment Instructions of Hamilton Sundstrand/ Arkwin Industries Service Bulletin ERPS08A-29-2, dated February 22, 2001.

Parts Installation

(d) As of the effective date of this AD: No person may install an Arkwin Industries RAT actuator having P/N 764711 on any Airbus Model A319, A320, or A321 airplane, unless it is in compliance with this AD.

Note 1: The subject of this AD is addressed in French airworthiness directive 2001-236(B) R1, dated December 24, 2002.

Issued in Renton, Washington, on December 5, 2003.
Kalene C. Yanamura,
Acting Manager, Transport Airplane Directorate, Aircraft Certificiation Service.

[FR Doc. 03-31065 Filed 12-16-03; 8:45 am]

BILLING CODE 4910-13-P